POSTAL SERVICE

Board of Governors; Sunshine Act Meeting

DATES AND TIMES: Thursday, May 9, 2013, at 10:00 a.m.; and Friday, May 10, at 8:30 a.m. and 10:30 a.m.

PLACE: Washington, DC, at U.S. Postal Service Headquarters, 475 L'Enfant Plaza SW., in the Benjamin Franklin Room.

STATUS: Thursday, May 9 at 10:00 a.m.—Closed; Friday, May 10 at 8:30 a.m.—Open; and at 10:30 a.m.—Closed

Matters To Be Considered

Thursday, May 9, at 10:00 a.m. (Closed)

1. Strategic Issues.

2. Financial Matters.

3. Pricing.

4. Personnel Matters and Compensation Issues.

5. Governors' Executive Session—Discussion of prior agenda items and Board Governance.

Friday, May 10 at 8:30 a.m. (Open)

1. Remarks of the Chairman of the Board.

2. Remarks of the Postmaster General and CEO.

3. Approval of Minutes of Previous Meetings.

4. Committee Reports.

5. Quarterly Report on Financial Performance.

6. Quarterly Report on Service Performance.

7. Tentative Agenda for the June 18, 2013, meeting in Washington, DC.

Friday, May 10 at 10:30 a.m. (Closed—If Needed)

1. Continuation of Thursday's closed session agenda.

Contact Person For More Information: Julie S. Moore, Secretary of the Board, U.S. Postal Service, 475 L'Enfant Plaza SW., Washington, DC 20260-1000. Telephone: (202) 268-4800.

Julie S. Moore,
Secretary.

[FR Doc. 2013-10344 Filed 4-29-13; 11:15 am]

BILLING CODE 7710-12-P